DEPARTMENT OF COMMERCE

Foreign-Trade Zones Board

[Docket T-2-2008]

Foreign-Trade Zone 26 Atlanta, GA, Application for Temporary/Interim Manufacturing Authority, Kia Motors Manufacturing Georgia, Inc. (Motor Vehicles), West Point, GA

An application has been submitted to the Executive Secretary of the Foreign-Trade Zones Board (the Board) by the Georgia Foreign-Trade Zone, Inc., grantee of FTZ 26, requesting temporary/interim manufacturing (T/IM) authority within FTZ 26 at the Kia Motors Manufacturing Georgia, Inc. (KMMG) facility in West Point, Georgia. The application was filed on May 7, 2008.

The KMMG facility (about 2,500 employees) is located at 700 Kia Parkway in West Point (Troup County), Georgia (Site 1 T1). Under T/IM procedures, KMMG would produce up to 350,000 light-duty passenger vehicles (sedans, sport utility vehicles, minivans) (HTSUS 8703.23, 8703.24) annually for the U.S. market and export. Foreign components that would be used in production (representing about 25% of total material inputs) include: oils (HTSUS 2710.11), paints (3208.10, 3209.90), plastic tubes/pipes/hoses (3917.31, 3917.40), plastic sheets/strips/plates (3919.90, 3921.90), rubber tubes/hoses (4009.11, 4009.31), rubber belts (4010.31, 4010.33), tires (4011.20), gaskets/washers/o-rings (4016.93, 4016.99), carpet sets (5703.20), safety glass (7007.11, 7007.21), mirrors (7009.10), tube fittings (7307.22, 7307.99), fasteners (7318.14), locks/keys (8301.20, 8301.40), engines (8407.34), engine parts (8409.91), pumps (8413.30), valves (8481.80), and bumpers (8708.10) (duty rates: free - 8.6%).

FTZ procedures could exempt KMMG from customs duty payments on foreign components used in export production (estimated to be 10% of plant shipments). On its domestic sales, KMMG would be able to choose the duty rate that applies to finished passenger vehicles (2.5%) for the foreign inputs noted above that have higher rates. Customs duties also could possibly be deferred or reduced on foreign status production equipment.

Public comment is invited from interested parties. Submissions (original and 3 copies) shall be addressed to the Board's Executive Secretary at the following address: Office of the Executive Secretary, Room 2111, U.S. Department of Commerce, 1401 Constitution Avenue, NW., Washington, DC 20230-0002. For further information, contact Pierre Duy at pierre_duy@ita.doc.gov, or (202) 482-1378. The closing period for receipt of comments is June 12, 2008.

A copy of the application will be available for public inspection at the Office of the Foreign-Trade Zones Board's Executive Secretary at the address listed above.

Dated: May 7, 2008.
Andrew McGilvray,
Executive Secretary.

[FR Doc. E8-10653 Filed 5-12-08; 8:45 am]

BILLING CODE 3510-DS-S